NUCLEAR REGULATORY COMMISSION

[Docket No. 50-382; NRC-2011-0023]

Entergy Operations, Inc., Waterford Steam Electric Station, Unit 3, Environmental Assessment and Finding of No Significant Impact

The U.S. Nuclear Regulatory Commission (NRC or the Commission) is considering issuance of an exemption, pursuant to Title 10 of the Code of Federal Regulations (10 CFR), 26.9, “Specific exemptions,” from paragraphs (c) and (d) of 10 CFR 26.205, “Work hours,” for Facility Operating License No. NPF-38, issued to Entergy Operations, Inc. (Entergy, the licensee), for operation of the Waterford Steam Electric Station, Unit 3 (Waterford 3), located in St. Charles Parish, Louisiana.

In accordance with 10 CFR 51.21, the NRC prepared an environmental assessment documenting its finding. The NRC concluded that the proposed actions will have no significant impact.

Environmental Assessment

Identification of the Proposed Action

The proposed action would consider approval of an exemption for Waterford 3, from some of the requirements of 10 CFR part 26, “Fitness for duty programs.” Specifically, the licensee requests approval of an exemption from the requirements of 10 CFR 26.205(c), “Work hours scheduling,” and (d), “Work hour controls,” to allow for sequestering site personnel prior to and following the entry and exit conditions (i.e., emergency declaration) related to adverse weather conditions caused by a hurricane.

The licensee states that during declaration of severe weather conditions, such as hurricane watches and warnings or inland hurricane wind watches and warnings caused by a hurricane impacting the coast, adherence to all work hour controls requirements could impede the licensee's ability to use whatever staff resources may be necessary to respond to a plant emergency and ensure that the plant reaches and maintains a safe and secure status.

Since 10 CFR 26.207(d), “Plant emergencies,” already provides an exception for the time period associated with a declared emergency, the exemption requested per 10 CFR 26.9 only applies to the applicable time periods prior to and following the 10 CFR 26.207(d) exception, requiring the sequestering of Waterford 3 response personnel and related staff resource limitations.

The proposed exemption will allow the licensee not to meet the requirements of 10 CFR 26.205(c) and (d), from the time the existing entry conditions for declaring an emergency condition that hurricane watches and warnings or inland hurricane wind watches and warnings caused by a hurricane impacting the coast sequestering conditions are met until severe weather exit conditions are satisfied. The exemption will only apply to individuals performing certain types of duties defined in 10 CFR 26.4(a)(1) through (a)(5), namely, (1) Operating or onsite directing of the operation of structures, systems and components (SSCs) that a risk-informed evaluation process has shown to be significant to public health and safety; (2) performing health physics or chemistry duties required as a member of the onsite emergency response organization minimum shift complement; (3) performing the duties of a fire brigade member who is responsible for understanding the effects of fire and fire suppressants on safe shutdown capability; (4) performing maintenance or onsite directing of the maintenance of SSCs that a risk-informed evaluation process has shown to be significant to public health and safety; and (5) performing security duties as an armed security force officer, alarm station operator, response team leader, or watchperson. When crew sequestering exit conditions are met, full compliance with 10 CFR 26.205(c) and (d) will be required.

The proposed action is in accordance with the licensee's application dated May 27, 2010, as supplemented by letters dated November 3 and 29, 2010, which are available to the public in the NRC's Agencywide Documents Access and Management System (ADAMS) Accession Nos. ML101520325, ML103090716, and ML103350158, respectively.

The Need for the Proposed Action

The proposed action is needed because the licensee is unable to meet the requirements of 10 CFR 26.205(c) and (d) during existing entry and exit conditions when declarations of severe weather conditions that could result due to prevailing hurricane watches and warnings or inland hurricane wind watches and warnings caused by a hurricane impacting the coast impacting the facility are made.

Compliance with work hour control requirements would impede the licensee's ability to use whatever staff resources may be necessary to respond to a plant emergency and ensure that the plant reaches and maintains a safe and secure status.

Environmental Impacts of the Proposed Action

The NRC has completed its evaluation of the proposed action and concludes that there are no environmental impacts associated with the proposed exemption. The details of the staff's safety evaluation will be provided in the exemption, if approved by the NRC, that will be issued as part of the letter to the licensee approving the exemption to the regulation.

The proposed action will not significantly increase the probability or consequences of accidents. No changes are being made in the types of effluents that may be released offsite. There is no significant increase in the amount of any effluent released offsite. There is no significant increase in occupational or public radiation exposure. Therefore, there are no significant radiological environmental impacts associated with the proposed action.

The proposed action does not result in changes to land use or water use, or result in changes to the quality or quantity of non-radiological effluents. No changes to the National Pollution Discharge Elimination System permit are needed. No effects on the aquatic or terrestrial habitat in the vicinity of the plant, or to threatened, endangered, or protected species under the Endangered Species Act, or impacts to essential fish habitat covered by the Magnuson-Stevens Act are expected. There are no impacts to the air or ambient air quality. There are no impacts to historical and cultural resources. There would be no noticeable effect on socioeconomic conditions in the region. Therefore, no changes or different types of non-radiological environmental impacts are expected as a result of the proposed action. Accordingly, the NRC concludes that there are no significant environmental impacts associated with the proposed action; therefore, the staff has determined not to prepare an environmental impact statement for the proposed action.

Environmental Impacts of the Alternatives to the Proposed Action

As an alternative to the proposed action, the NRC staff considered denial of the proposed action (i.e., the “no-action” alternative). Denial of the exemption request would result in no change in current environmental impacts. If the proposed action was denied, the licensee would have to comply with the work hour control requirements in 10 CFR 26.205(c) and (d). This would cause unnecessary burden on the licensee, without a significant benefit in environmental impacts. The environmental impacts of the proposed exemption and the “no-action” alternative are similar.

Alternative Use of Resources

The action does not involve the use of any different resources than those previously considered by the NRC staff in the Final Environmental Statement for Waterford 3, dated September 1981 (NUREG-0779).

Agencies and Persons Consulted

In accordance with its stated policy, on January 4, 2011, the NRC staff consulted with the Louisiana State official, JiYoung Wiley, Department of Radiological Emergency Preparedness and Response, regarding the environmental impact of the proposed action. The Louisiana State official had no comments.

Finding of No Significant Impact

On the basis of the above environmental assessment which, pursuant to 10 CFR 51.32(a)(4) is incorporated into this finding of no significant impact by reference, the NRC concludes that the proposed action will not have a significant effect on the quality of the human environment. Accordingly, the NRC has determined not to prepare an environmental impact statement for the proposed action.

For further details with respect to the proposed action, see the licensee's letter dated May 27, 2010, as supplemented by letters dated November 3 and 29, 2010. Documents may be examined, and/or copied for a fee, at the NRC's Public Document Room (PDR), located at One White Flint North, Room O1-F21, 11555 Rockville Pike (first floor), Rockville, Maryland 20852-2338. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 21st day of January 2011.
For the Nuclear Regulatory Commission.
Nageswaran Kalyanam,
Project Manager, Plant Licensing Branch IV, Division of Operating Reactor Licensing, Office of Nuclear Reactor Regulation.

[FR Doc. 2011-2034 Filed 1-28-11; 8:45 am]

BILLING CODE 7590-01-P